FEDERAL COMMUNICATIONS COMMISSION

[DA 03-1974]

Private Land Mobile Radio License Renewal Only Process

AGENCY: Federal Communications Commission.

ACTION: Notice.

SUMMARY: In this document the Federal Communications Commission's (FCC's) Public Safety and Private Wireless Division of the Wireless Telecommunications Bureau clarifies the process for renewing private land mobile radio (PLMR) licenses. It has come to the FCC staff's attention that there is some confusion among PLMR licensees regarding license renewal. This is intended to facilitate ease and familiarity of the PLMR license renewal process for FCC customers.

ADDRESSES: Federal Communications Commission, 445 12th Street, SW., TW-A325, Washington, DC 20554. See Supplementary Information for additional instructions.

FOR FURTHER INFORMATION CONTACT: Concerning the PLMR renewal process, persons may contact the FCC's Licensing and Technical Analysis Branch at (717) 338-2646. For general information about the ULS, including answers to frequently asked questions regarding submitting applications, finding the status of pending applications, and searching the ULS database, the FCC recommends first consulting the ULS Web page at http://wireless.fcc.gov/uls. Also, persons may contact ULS/Auctions Hotline at 1-888-CALLFCC (225-5322), choose option #2 or (717) 338-2888 for questions about application matters. E-mail questions may be sent to ulshelp@fcc.gov.

SUPPLEMENTARY INFORMATION: This is a summary of the FCC's Public Notice, DA 03-1974, released on June 16, 2003. The full text of this document is available for inspection and copying during normal business hours in the FCC Reference Center, 445 12th Street, SW., Washington, DC 20554. The complete text may be purchased from the FCC's copy contractor, Qualex International, 445 12th Street, SW., Room CY-B402, Washington, DC 20554. The full text may also be downloaded at: www.fcc.gov. Alternative formats are available to persons with disabilities by contacting Brian Millin at (202) 418-7426 or TTY (202) 418-7365 or at bmillin@fcc.gov.

1. Private Land Mobile Radio (PLMR) licenses are granted for a specific period of time. Licensees must file a renewal application with the FCC prior to license expiration to continue to operate under their licenses after the specified expiration date. It is very important that licensees follow the correct procedure in renewing their licenses. Otherwise, they risk losing the license(s).

2. To assist PLMR licensees in renewing their licenses, the FCC's Wireless Telecommunications Bureau (Bureau) sends out a renewal notice approximately ninety days before the license expiration date to remind licensees of the pending expiration. This renewal reminder, however, is merely a courtesy and non-receipt of this notice by the licensee is not sufficient justification for the licensee's failure to file a timely renewal application with the FCC. Under the FCC's licensing procedures, licensees are fully responsible for knowing the term of their licenses and for filing a timely renewal application. Even licensees engaged in public safety activities are expected to comply with the renewal filing requirements.

3. It has come to the FCC's attention that there is some confusion among PLMR licensees regarding license renewal. Accordingly, the Bureau has taken several steps to minimize this confusion. First, it has modified the renewal reminder notice in an effort to make it clearer which FCC Form needs to be submitted for renewal purposes. Second, the Bureau has modified the manual filing instructions on the FCC's Universal Licensing System (ULS) Web page to make it easier for licensees to understand how to renew a PLMR license manually. Finally, the Bureau outlines the specific procedures governing the PLMR renewal process for manually-filed applications. Specifically, this public notice discusses such topics as when and where to file renewal applications, defects that will result in the dismissal of a renewal application, and what to do in the event a licensee fails to timely file a renewal. We anticipate that these actions will facilitate ease and familiarity of the PLMR license renewal process for FCC customers.

Manual Renewal Only Process

4. When to File (i.e., Filing Window). An application to renew a PLMR license must be properly filed with the FCC no later than the expiration date of the authorization and no sooner than ninety days prior to the expiration.

5. Renewal Form. For manually-filed PLMR license renewal applications (paper filings by mail), entities must use FCC Form 601. The form is available at http://www.fcc.gov/formpage.html or by calling our toll free forms number (1-800-418-3676). To file a “Renewal Only” application (i.e., an application only requesting renewal of a PLMR authorization) for a single call sign, applicants only need to file the FCC Form 601—Main Form. If renewing multiple call signs, applicants must also file the FCC Form 601—Schedule A. The fields on the FCC Form 601 that an applicant must complete for paper filing by mail are listed on an attachment to this Public Notice. If assistance is needed to complete the FCC Form 601, persons may call the ULS/Auctions Hotline at 1-888-225-5322, select option 2.

6. Fees. Use FCC Form 1070M to determine the appropriate fee information. If a fee is required, applicants must complete FCC Form 159 with the appropriate payment code. These two forms can be obtained at http:/www.fcc.gov/formpage.html or by calling the toll free forms number (1-800-418-3676). PLMR eligibles filing as governmental entities are exempt from fee payment. Also, certain non-profit entities are eligible for a partial fee exemption. If uncertainty exists regarding such eligibility, please refer to the Wireless Telecommunications Bureau Fee Filing Guide available at http://www.fcc.gov/fees/appfees.html or call the FCC's Consumer Center at 1-888-225-5322, select option 2.

7. Where to File. Non-feeable applications should be sent to the following address: Federal Communications Commission, 1270 Fairfield Road, Gettysburg, PA 17325-7245.

Feeable applications (along with a completed FCC Form 159 and applicable fee) should be sent to the following address: Federal Communications Commission, Wireless Bureau Applications, PO Box 358245, Pittsburgh, PA 15251-5245.

8. Applications with one or more of the defects listed below will be dismissed by the Bureau as defective, rather than returned to the applicant for correction. Consequently, these defects are fatal to the consideration of a PLMR renewal application.

• Applicant files on the wrong FCC Form.

• Applicant fails to sign the application form.

• Applicant fails to pay the correct filing fee.

• Application is filed after expiration and does not include a waiver request.

• Application does not include the proper FCC Registration Number (FRN).

9. Applicants should be aware that applications that are dismissed as defective and subsequently refiled are considered newly-filed applications (i.e., the application loses its original place in the processing line). As newly-filed renewal applications, they may be deemed untimely with respect to the filing window for renewal applications. In addition, these refiled applications must be accompanied by a new filing fee if a fee was originally required. Therefore, it is very important that manually-filed renewal applications be properly filed the first time.

10. Renewal Applications Filed Outside the Filing Window. Renewal applications filed with the FCC sooner than ninety days prior to license expiration and not requesting a waiver will be dismissed. Renewal applications that are late-filed (up to, and including thirty days after expiration) will be granted nunc pro tunc if the application is otherwise sufficient under the rules and is accompanied by a request for waiver, but the licensee may be subject to an enforcement action for unauthorized operation during this time frame (e.g., operation during the time between the expiration of the license and a Commission action authorizing operation). PLMR applicants who file renewal-only applications more than thirty days after the license expiration date may also request that the license be renewed nunc pro tunc, but such requests will not be routinely granted, will be subject to stricter review, and also may be accompanied by enforcement action, including more significant fines or forfeitures. Requests to grant a late-filed application (more than 30 days after expiration) also must be accompanied by a request for a waiver of the FCC's Rules. In determining whether to grant a late-filed renewal application and associated waiver, the Bureau will consider all of the facts and circumstances, including the length of the delay in filing, the reasons for the failure to timely file, the potential consequences to the public if the license should terminate and the performance record of the licensee. It is up to the applicant to provide sufficient justification for grant of the late-filed renewal. [Note: The Bureau will not routinely grant waiver requests solely because the applicant is engaged in public safety activities.]

11. FCC Registration Number (FRN). Anyone doing business with the FCC must obtain an FRN. In order to file a renewal application, applicants must provide the correct FRN information on the application. In order to ascertain the FRN associated with the call sign(s) to be renewed, the licensee can query the call signs using ULS at http://wireless.fcc.gov/uls/. If an FRN is associated with the call sign(s) it will be displayed on the Query Results Screen. If there is no FRN listed for the call sign(s) in question, then the licensee must register for an FRN and associate it with the call sign(s) of the station(s) being renewed. Entities may obtain an FRN by completing a FCC Form 160 or file online at http://wireless.fcc.gov/uls/ by selecting “Register CORES/Call Sign.” Since improper FRN information on a PLMR renewal application is a fatal defect, applicants are encouraged to verify this information prior to filing. Also, to assist in FRN registration the FCC provides additional information at http://svartifoss2.fcc.gov/cores/CoresHome.html under Frequently Asked Questions.

12. Operation After Scheduled License Expiration. A licensee may continue to operate its station(s) under its existing authorization(s) provided the licensee has a properly filed renewal application for that station on file with the FCC on or before the scheduled date for license expiration. It should be noted that such continued operation is authorized even if the renewal application has been returned by FCC staff for correction. Licensees, however, may not operate under an expired authorization if the renewal application was filed after the license expiration date or if the renewal application was filed prior to expiration but was later dismissed by the FCC. In either of these two instances, if the licensee wants to continue to operate, it must file for and obtain a Special Temporary Authority (STA) from the FCC. Absent grant of a STA, the entity is no longer authorized to operate on the subject frequencies. Moreover, continued operation under either of these circumstances would be violative of the FCC's Rules and the Communications Act of 1934, as amended. Applicants can apply for an STA interactively or manually. To file interactively, see http://wireless.fcc.gov/uls/ and select online filing. To file manually, entities must submit FCC Form 601 (main form) with the appropriate schedule(s) for the radio service in which they are licensed, plus any attachments that are required. For STA applications, the purpose of the filing (field 2 on the FCC Form 601) would be new (NE).

Federal Communications Commission.
D'wana R. Terry,
Chief, Public Safety and Private Wireless Division, Wireless Telecommunications Bureau.

[FR Doc. 03-16338 Filed 6-26-03; 8:45 am]

BILLING CODE 6712-01-P